DEPARTMENT OF HEALTH AND HUMAN SERVICES

Health Resources and Services Administration

Agency Information Collection Activities: Proposed Collection; Comment Request

In compliance with the requirement for opportunity for public comment on proposed data collection projects (section 3506(c)(2)(A) of title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Division of Perinatal Systems and Women's Health—Forms for the Guidance for Healthy Start Program Application and Other Reports—New

The Application Guidance for grants within the Division of Healthy Start and Perinatal Services (DHSPS) is used annually by all community based Healthy Start organizations and agencies applying for funding (either continued or new), and in preparing the required annual report. The guidance provides guidelines to the organizations and agencies on how to apply for Healthy Start funds. Included in the guidance are a number of data collection forms, which are used annually by organizations that have applied for and/or are receiving Healthy Start funding. It is proposed that additional data be collected and reported to provide increased program information. The completion of the new and existing forms by all applicants has an estimated overall burden of 500 hours, or approximately five (5) hours per respondent. The burden estimate for this activity is based upon information provided by current and past funded Healthy Start grantees, as well as previous experience in completing the current forms.

The estimated response burden is as follows:

Application and annual report | Estimated number of respondents | Responses per respondent | Burden hours per response | Total burden hours
Community Based Organizations and Agencies | 100 | 1 | 5 | 500

Send comments to Susan G. Queen, Ph.D., HRSA Reports Clearance Officer, Room 10-33, Parklawn Building, 5600 Fishers Lane, Rockville, MD 20857. Written comments should be received within 60 days of notice.

Dated: April 1, 2005.
Tina M. Cheatham,
Director, Division of Policy Review and Coordination.

[FR Doc. 05-7018 Filed 4-7-05; 8:45 am]

BILLING CODE 4165-15-P